DEPARTMENT OF COMMERCE

Foreign-Trade Zones Board

[Docket 37-2007]

Foreign-Trade Zone 143 - West Sacramento, California, Application for Subzone, Grafil, Inc. (Carbon Fiber Manufacturing), Sacramento, California

An application has been submitted to the Foreign-Trade Zones (FTZ) Board (the Board) by the Sacramento-Yolo Port District Commission, grantee of FTZ 143, requesting special-purpose subzone status with manufacturing authority for carbon fiber products at the facilities of Grafil, Inc. (Grafil), located in Sacramento, California. The application was submitted pursuant to the Foreign-Trade Zones Act, as amended (19 U.S.C. 81a-81u), and the regulations of the Board (15 CFR part 400). It was formally filed on August 14, 2007.

The proposed subzone would be composed of two sites in Sacramento, California: Site 1 - manufacturing and distribution facility (65,000 square feet (including a proposed addition of 5,000 sq. ft.) of enclosed space on 10 acres), located at 5900 88th Street; and, Site 2 - warehousing and distribution facility (46,000 sq. ft. space (within a larger 127,249 sq. ft. building) on 1 acre) located at 6003 88th Street, less than a half mile south of Site 1.

The Grafil facilities (109 employees) manufacture polyacrylonitrile-based carbon fiber products, including carbon fiber for commercial applications, such as sporting goods and automotive products, as well as precision cut fibers. The company is proposing to manufacture carbon fiber under zone procedures using foreign-sourced polyacrylonitrile (PAN) precursor, accounting for some 26 percent of finished product value.

FTZ procedures would exempt Grafil from customs duty payments on foreign materials used in production for export. Some 28 percent of the plant's shipments are exported. On its domestic shipments, the company would be able to choose the duty rate during customs entry procedures that applies to finished carbon fiber products (duty-free) for the otherwise dutiable foreign PAN precursor (duty rates - 7.5%% to 8%%). The application indicates that FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is October 23, 2007. Rebuttal comments in response to material submitted during the foregoing period may be submitted during the subsequent 15-day period (to November 7, 2007).

A copy of the application will be available for public inspection at each of the following locations: U.S. Department of Commerce Export Assistance Center, 1410 Ethan Way, Sacramento, California 95825; and, Office of the Executive Secretary, Foreign-Trade Zones Board, Room 2111, U.S. Department of Commerce, 1401 Constitution Avenue, NW., Washington, DC 20230-0002.

For further information, contact Diane Finver at Diane_Finver@ita.doc.gov or (202) 482-1367.

Dated: August 17, 2007.
Andrew McGilvray,
Executive Secretary.

[FR Doc. E7-16827 Filed 8-23-07; 8:45 am]

BILLING CODE 3510-DS-S